Title 3—

The President

Proclamation 8226 of March 14, 2008

National Poison Prevention Week, 2008

By the President of the United States of America

A Proclamation

Since 1962, National Poison Prevention Week has helped to raise awareness about the dangers of potentially poisonous medicines and household chemicals. During this week, we underscore our commitment to protect our fellow citizens from accidental poisonings and to educate families about the preventive steps that can be taken to ensure the safety of our young people.

More than 2 million poisonings are reported each year across the country. In order to help prevent these poisonings, parents should place household chemicals out of the reach of children, keep items in their original containers, and read the labels and dosages on all products thoroughly before use. Installing carbon monoxide alarms in homes to help monitor air quality can also save lives.

To learn more about the ways to keep children safe and help prevent poisonings, I encourage all Americans to visit the Poison Prevention Week Council website at poisonprevention.org. In case of an emergency, individuals can contact the nearest Poison Control Center 24 hours a day, 7 days a week at 1-800-222-1222. By taking precautions, properly supervising children, and knowing what to do in an emergency, we can protect the health and well-being of more Americans.

To encourage Americans to learn more about the dangers of accidental poisonings and to take appropriate preventive measures, the Congress, by joint resolution approved September 26, 1961, as amended (75 Stat. 681), has authorized and requested the President to issue a proclamation designating the third week of March each year as “National Poison Prevention Week.”

NOW, THEREFORE, I, GEORGE W. BUSH, President of the United States of America, do hereby proclaim March 16 through March 22, 2008, as National Poison Prevention Week. I call upon all Americans to observe this week by participating in appropriate activities and by learning how to prevent poisonings.

IN WITNESS WHEREOF, I have hereunto set my hand this fourteenth day of March, in the year of our Lord two thousand eight, and of the Independence of the United States of America the two hundred and thirty-second.

[FR Doc. 08-1057

Filed 03-18-08; 8:45 am]

Billing code 3195-01-P